DEPARTMENT OF AGRICULTURE

Forest Service

Salmon-Challis National Forest; Idaho; Big Creek Geothermal Leasing Proposal

AGENCY: Forest Service, USDA.

ACTION: Notice of intent to prepare an environmental impact statement.

SUMMARY: The Salmon-Challis National Forest will prepare an environmental impact statement to analyze the potential effects of geothermal development on approximately 5,600 acres. The decision will be whether to proceed with geothermal leasing and, if so, under what stipulations.

DATES: Comments concerning the scope of the analysis must be received by October 26, 2015. The draft environmental impact statement is expected in May, 2016 and the final environmental impact statement is expected in September, 2016.

ADDRESSES: Send written comments to Big Creek Geothermal EIS Project, Salmon-Challis National Forest, 1206 South Challis Street, Salmon, ID 83467. Comments may also be sent via email to comments-intermtn-salmon-challis@fs.fed.us, or via facsimile to 208-756-5151.

FOR FURTHER INFORMATION CONTACT: Julie Hopkins, Minerals Program Manager, via email at juliehopkins@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The Bureau of Land Management (BLM) received applications for leasing approximately 5,600 acres of Salmon-Challis National Forest (SCNF) lands for exploration and development for geothermal energy production. The SCNF must decide whether these lands are available for leasing by the BLM and, if so, under what stipulations for protection of surface resources. The entire area plus an additional approximately 100 acres for power transmission will be considered in the analysis in the event of future similar interest.

Proposed Action

Approximately 5,600 acres of the SCNF lands within the project area would be allocated as open to geothermal leasing subject to existing laws, regulations, formal orders and stipulations attached to the lease form, and the terms and conditions of the standard lease form. Stipulations proposed include: No surface occupancy; controlled surface use; and timing limitations.

Lead and Cooperating Agencies

The Forest Service, Salmon-Challis National Forest, is the lead agency in this analysis.

Responsible Official

The responsible official is the Forest Supervisor of the Salmon-Challis National Forest.

Nature of Decision To Be Made

The decision will be whether to implement the action as proposed, implement an alternative which allows leasing under different stipulations or conditions, or not to implement the action. If the decision is to authorize leasing, that decision with associated stipulations and conditions will become an amendment to the Salmon-Challis National Forest Plan or will become a part of the Revised Forest Plan.

Scoping Process

This notice of intent initiates the scoping process, which guides the development of the environmental impact statement. The complete Proposed Action, with accompanying maps and descriptions of proposed stipulations, will be posted at: http://www.fs.usda.gov/projects/scnf/landmanagement/projects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: September 17, 2015.
Charles A. Mark,
Forest Supervisor.

[FR Doc. 2015-24246 Filed 9-23-15; 8:45 am]

BILLING CODE 3410-11-P